DEPARTMENT OF TRANSPORTATION

Federal Aviation Administration

14 CFR Part 39

[Docket No. FAA-2005-22358; Directorate Identifier 2005-NE-20-AD]

RIN 2120-AA64

Airworthiness Directives; Engine Components Inc. (ECi) Reciprocating Engine Cylinder Assemblies

AGENCY: Federal Aviation Administration (FAA), Department of Transportation (DOT).

ACTION: Notice of proposed rulemaking (NPRM).

SUMMARY: The FAA proposes to supersede an existing airworthiness directive (AD) for Lycoming Engines (formerly Textron Lycoming) models 320, 360, and 540 series, “Parallel Valve” reciprocating engines, with certain Engine Components Inc. (ECi) cylinder assemblies, part number (P/N) AEL65102 series “Classic Cast”, installed. That AD currently requires replacing these ECi cylinder assemblies. This proposed AD would require the same actions, but would replace the “Engine Models” Table 1 and “Engines Installed On, But Not Limited To” Table 2 with corrected tables. Also, this proposed AD would correct a casting part number. This proposed AD results from reports of applicability errors found in AD 2005-26-10. We are proposing this AD to prevent loss of engine power due to cracks in the cylinder assemblies and possible engine failure caused by separation of a cylinder head.

DATES: We must receive any comments on this proposed AD by March 13, 2006.

ADDRESSES: Use one of the following addresses to comment on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

FOR FURTHER INFORMATION CONTACT: Peter Hakala, Aerospace Engineer, Special Certification Office, FAA, Rotorcraft Directorate, 2601 Meacham Blvd., Fort Worth, TX 76193; telephone (817) 222-5145; fax (817) 222-5785.

SUPPLEMENTARY INFORMATION:

Comments Invited

We invite you to send any written relevant data, views, or arguments regarding this proposal. Send your comments to an address listed under ADDRESSES. Include “Docket No. FAA-2005-22358; Directorate Identifier 2005-NE-20-AD” in the subject line of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the proposal, any comments received and any final disposition in person at the DMS Docket Office between 9 a.m. and 5 p.m., Monday through Friday, except Federal holidays. The Docket Office (telephone (800) 647-5227) is located on the plaza level of the Department of Transportation Nassif Building at the street address stated in ADDRESSES. Comments will be available in the AD docket shortly after the DMS receives them.

Discussion

On December 19, 2005, we issued AD 2005-26-10, Amendment 39-14431 (70 FR 76385, December 27, 2005). That AD requires replacing ECi cylinder assemblies P/N AEL65102 series “Classic Cast”, having casting P/N AEL65099 and SN 1 through 9879. That AD was the result of reports of about 30 failures of the subject cylinder assemblies marketed by ECi. That condition, if not corrected, could result in loss of engine power due to cracks in the cylinder assemblies and possible engine failure caused by separation of a cylinder head.

Actions Since AD 2005-26-10 was Issued

Since AD 2005-26-10 was issued, we received reports of errors in the “Engine Models” Table 1, and “Engines Installed On, But Not Limited To” Table 2. Also, we discovered an incorrect part number in paragraph (h)(3).

FAA's Determination and Requirements of the Proposed AD

We have evaluated all pertinent information and identified an unsafe condition that is likely to exist or develop on other products of this same type design. For that reason, we are proposing this AD to ensure that operators are provided with the correct applicability, which would require:

• Replacing ECi cylinder assemblies P/N AEL65102 series “Classic Cast”, having casting P/N AEL65099 and SN 1 through 9879 (sold from January 1997 to September 2001); (same as AD 2005-26-10);

• Replacing the “Engine Models” Table 1 with a corrected Table 1, to ensure that operators are provided with the correct applicability; and

• Replacing the “Engines Installed On, But Not Limited To” Table 2 with a corrected Table 2; and

• Replacing casting P/N AEL85009 with P/N AEL85099 in paragraph (h)(3), “Definition of a Replacement Cylinder Assembly”.

Costs of Compliance

There were 9,879 ECi cylinder assemblies produced of the affected design available to the worldwide fleet. ECi reported that about fifteen percent of their cylinder assemblies go to foreign countries. We estimate ten percent of the remaining cylinders were never installed or are already removed from service, leaving 7,557 cylinder assemblies in service in the United States. We estimate that 1,574 Lycoming engines are in the United States with the subject cylinder assemblies installed. We estimate that it would take about two work hours per engine to perform the proposed aircraft inspections of the cylinder assemblies for applicability, and that the average labor rate is $65 per work hour. From the Lycoming Engines “Removal and Installation Labor Allowance Guidebook”, dated May 2000, the complete cylinder replacement for a four cylinder engine takes 12 hours, while the complete cylinder replacement for a six cylinder engine takes 16 hours. Required parts would cost about $1,000 per cylinder assembly. Based on these figures, we estimate that the total cost of the proposed AD to U.S. operators to be $9,152,140. ECi indicated that they might give operators and repair stations credit for returned cylinder assemblies toward the purchase of new ECi cylinder assemblies.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14431 (70 FR 76385, December 27, 2005) and by adding the following new airworthiness directive:

Engine Components Incorporated (ECi): Docket No. FAA-2005-22358; Directorate Identifier 2005-NE-20-AD.

Comments Due Date

(a) The Federal Aviation Administration (FAA) must receive comments on this airworthiness directive (AD) action by March 13, 2006.

Affected ADs

(b) This AD supersedes AD 2005-26-10, Amendment 39-14431.

Applicability

(c) This AD applies to Lycoming Engines (formerly Textron Lycoming) models 320, 360, and 540 series, parallel valve, reciprocating engines specified in Table 1 of this AD, with Engine Components Inc. (ECi) cylinder assemblies, part number (P/N) AEL65102 series “Classic Cast”, having casting P/N AEL65099 and serial numbers (SNs) 1 through 9879, (sold from January 1997 to September 2001) installed.

Table 1.—Engine Models
Cylinder head part number | Installed on engine models
AEL65102-NST04 | O-320-A1B, A2B, A2C, A2D, A3A, A3B, B2B, B2C, B2D, B2E, B3B, B3C, C2B, C2C, C3B, C3C, D1A, D1AD, D1B, D1C, D1D, D1F, D2A, D2B, D2C, D2F, D2G, D2H, D2J, D3G, E1A, E1B, E1C, E1F, E1J, E2A, E2B, E2C, E2D, E2E, E2F, E2G, E2H, E3D, E3H.
| IO-320-A1A, A2A, B1A, B1B, B1C, B1D, B1E, B2A, D1A, D1AD, D1B, D1C, E1A, E1B, E2A, E2B.
| AEIO-320-D1B, D2B, E1A, E1B, E2A, E2B.
| AIO-320-A1A, A1B, A2A, A2B, B1B, C1B.
| LIO-320-B1A.
AEL65102-NST05 | IO-320-C1A, C1B, C1F, F1A.
| LIO-320-C1A.
AEL65102-NST06 | O-320-A1A, A2A, A2B, A2C, A3A, A3B, A3C, E1A, E1B, E2A, E2C, (also, an O-320 model with no suffix).
| IO-320-A1A, A2A.
AEL65102-NST07 | IO-320-B1A, B1B.
| LIO-320-B1A.
AEL65102-NST08 | O-320-B1A, B1B, B2A, B2B, B3A, B3B, B3C, C1A, C1B, C2A, C2B, C3A, C3B, C3C, D1A, D1B, D2A, D2B, D2C.
AEL65102-NST10 | O-360-A1A, A1C, A1D, A2A, A2E, A3A, A3D, A4A, B1A, B1B, B2A, B2B, C1A, C1C, C1G, C2A, C2B, C2C, C2D, D1A, D2A, D2B.
| IO-360-B1A, B1B, B1C.
| HO-360-A1A, B1A, B1B.
| HIO-360-B1A, B1B.
| AEIO-360-B1B.
| O-540-A1A, A1A5, A1B5, A1C5, A1D, A1D5, A2B, A3D5, A4A5, A4B5, A4C5, A4D5, B1A5, B1B5, B1D5, B2A5, B2B5, B2C5, B2C5D, B4A5, B4B5, B4B5D, D1A5, E1A, E4A5, E4B5, E4C5, F1A5, F1B5, G1A5, G2A5.
| IO-540-C1B5, C1C5, C2C, C4B5, C4B5D, C4C5, D4A5, D4B5, N1A5, N1A5D.
AEL65102-NST12 | O-360-A1A, A1AD, A1D, A1F, A1F6, A1F6D, A1G, A1G6, A1G6D, A1H, A1H6, A1J, A1LD, A1P, A2A, A2D, A2F, A2G, A2H, A3A, A3AD, A3D, A4A, A4AD, A4D, A4G, A4J, A4JD, A4K, A4M, A4N, A4P, A5AD, B1A, B2C, C1A, C1C, C1E, C1F, C1G, C2A, C2B, C2C, C2D, C2E, C4F, C4P, D2A, F1A6, G1A6.
| HO-360 -C1A.
| LO-360-A1G6D, A1H6.
| HIO-360-B1A, B1B, G1A.
| LTO-360-A1A6D.
| TO-360-A1A6D.
| IO-360-B1B, B1BD, B1D, B1E, B1F, B1F6, B1G6, B2E, B2F, B2F6, B4A, E1A, L2A, M1A, M1B.
| AEIO-360-B1B, B1D, B1E, B1F, B1F6, B1G6, B1H, B2F, B2F6, B4A, H1A, H1B.
| O-540-A4D5, B2B5, B2C5, B2C5D, B4B5, B4B5D, E4A5, E4B5, E4B5D, E4C5, G1A5, G1A5D, G2A5, H1A5, H1A5D, H1B5, H1B5D, H2A5, H2A5D, H2B5D.
| IO-540-C4B5, C4B5D, C4D5, C4D5D, D4A5, D4B5, D4C5, N1A5, N1A5D, T4A5D, T4B5, T4B5D, T4C5D, V4A5, V4A5D.
| AEIO-540-D4A5, D4B5, D4C5, D4D5.
AEL65102-NST26 | IO-540-J4A5, R1A5.
| TIO-540-C1A, E1A, G1A, H1A.
AEL65102-NST38 | IO-360-F1A.
| TIO-540-AA1AD, AB1AD, AB1BD, AF1A, AG1A, AK1A, C1A, C1AD, K1AD, LTIO-540-K1AD.
AEL65102-NST43 | O-360-J2A.
| O-540-F1B5, J1A5D, J1B5D, J1C5D, J1D5D, J2A5D, J2B5D, J2C5D, J2D5D, J3A5, J3A5D, J3C5D.
| IO-540-AB1A5, W1A5, W1A5D, W3A5D.
AEL65102-NST44 | O-540-L3C5D.

For information, the subject engines are installed on, but not limited to, the aircraft listed in the following Table 2:

Table 2.—Engines Installed on, But Not Limited to
O-320-A1A | Piper Aircraft: Tri-Pacer (PA-22 “150”, PA-22S “150”), Apache (PA-23), Pawnee (PA-25).
| Doyn Aircraft: Doyn-Cessna (170, 170A, 170B).
| Mooney Aircraft: Mark (20A).
| Dinfia: Ranquel (1A-46).
| Simmering-Graz Pauker: Flamingo (SGP-M-222).
| Aviamilano: Scricciolo (P-19).
| Vos Helicopter Co.: Spring Bok.
O-320-A1B | Piper Aircraft: Tri-Pacer (PA-22 “150”, PA-22S “150”), Apache (PA-23).
| Doyn Aircraft: Doyn-Cessna (170, 170A, 170B).
| S.O.C.A.T.A.: Horizon (Gardan).
O-320-A2A | Piper Aircraft: Tri-Pacer (PA-22 “150”, PA-22S “150”), Agriculture (PA-18A “150”) Super Cub (PA-18 “150”), Caribbean (PA-22 “150”), Pawnee (PA-25).
| Intermountain Mfg. Co.: Call Air Texas (A-5, A-5T).
| Lake Aircraft: Colonial (C-1).
| Rawdon Bros.: Rawdon (T-1, T-15, T-15D).
| Shinn Engineering: Shinn (2150-A).
| Dinfia: Ranquel (1A)46).
| Neiva: (1PD-5802).
| Sud: Gardan-Horizon (GY-80).
| LaVerda: Falco (F8L Series II, America).
| Malmo: Vipan (MF1-10).
| Kingsford Smith: Autocrat (SCRM-153).
| Aero Commander: 100.
O-320-A2B | Piper Aircraft: Tri-Pacer (PA-22 “150”, PA-22S “150”), Cherokee (PA-28 “150”), Super Cub (PA-18 “150”).
| Champion Aircraft: Challenger (7GCA, 7GCB, 7KC), Citabria (7GCAA, 7GCRC), Agriculture (7GCBA).
| Beagle: Pup (150).
| Artic: Interstate S1B2.
| Robinson: R-22.
| Varga: Kachina 2150A.
O-320-A2C | Robinson: R-22.
| Cicare: Cicare AG.
| Bellanca Aircraft: Citabria 150 (7GCAA), Citabria 150S (7GCBC).
O-320-A2D | Piper Aircraft: Apache (PA-23).
O-320-A3A | Doyn Aircraft: Doyn-Cessna (170, 170A, 170B).
| Corben-Fettes: Globe Special (Globe GC-1B).
O-320-A3B | Piper Aircraft: Apache (PA-23).
| Doyn Aircraft: Doyn-Cessna (170, 170A, 170B).
| Teal II: TSC (1A2).
O-320-B1A | Piper Aircraft: Apache (PA-23 “160”).
| Doyn Aircraft: Doyn-Cessna (170, 170A, 170B).
| Malmo: Vipan (MF1-10).
O-320-B1B | Piper Aircraft: Apache (PA-23 “160”).
| Doyn Aircraft: Doyn-Cessna (170, 170A, 170B).
O-320-B2A | Piper Aircraft: Tri-Pacer (PA-22 “160”, PA-22S “160”).
O-320-B2B | Piper Aircraft: Tri-Pacer (PA-22 “160”, PA-22S “160”).
| Beagle: Airedale (D5-160).
| Fuji-Heavy Industries: Fuji (F-200).
| Uirapuru: Aerotec 122.
O-320-B2C | Robinson: R-22.
O-320-B2D | Maule: MX-7-160.
O-320-B2E | Lycon.
O-320-B3A | Piper Aircraft: Apache (PA-23 “160”).
| Doyn Aircraft: Doyn-Cessna (170, 170A, 170B).
O-320-B3B | Piper Aircraft: Apache (PA-23 “160”)
| Doyn Aircraft: Doyn-Cessna (170, 170A, 170B).
| Sud: Gardan (GY80-160).
O-320-C1A | Piper Aircraft: Apache (PA-23 “160”).
| Riley Aircraft: Rayjay (Apache).
O-320-C1B | Piper Aircraft: Apache (PA-23 “160”).
O-320-C3A | Piper Aircraft: Apache (PA-23 “160”).
O-320-C3B | Piper Aircraft: Apache (PA-23 “160”).
O-320-D1A | Sud: Gardan (GY-80).
| Gyroflug: Speed Cancard.
| Grob: G115.
O-320-D1F | Slingsby: T67 Firefly.
O-320-D2A | Piper Aircraft: Cherokee (PA-28S “160”).
| Robin: Major (DR400-140B), Chevalier (DR-360), (R-3140).
| S.O.C.A.T.A.: Tampico TB9.
| Slingsby: T67C Firefly.
| Daetwyler: MD-3-160.
| Nash Aircraft Ltd.: Petrel.
| Aviolight: P66D Delta.
| General Avia: Pinguino.
O-320-D2B | Beech Aircraft: Musketeer (M-23).
| Piper Aircraft: Cherokee (PA-28 “160”).
O-320-D2J | Cessna Aircraft: Skyhawk 172.
O-320-D3G | Piper Aircraft: Warrior II, Cadet (PA-28-161).
O-320-E1A | Grob: G115.
O-320-E1C | M.B.B. (Messerschmitt-Boelkow-Blohm).: Monsun (BO-209-B).
O-320-E1F | M.B.B.: Monsun (BO-209-B).
O-320-E2A | Piper Aircraft: Cherokee (PA-28 “140”, PA-28 “150”).
| Robin: Major (DR-340), Sitar, Bagheera (GY-100-135).
| S.O.C.A.T.A.: Super Rallye (MS-886), Rallye Commodore (MS-892).
| Siai-Marchetti: (S-202).
| F.F.A.: Bravo (AS-202/15).
| Partenavia: Oscar (P66B), Bucker (131 APM).
| Aeromot: Paulistina P-56.
| Pezetel: Koliber 150.
O-320-E2C | Beech Aircraft: Musketeer III (M-23III).
| M.B.B.: Monsun (BO-209-B).
O-320-E2D | Cessna Aircraft: Cardinal (172-I, 177).
O-320-E2F | M.B.B.: Monsun (BO-209-B), Wassmer Pacific (WA-51).
O-320-E2G | American Aviation Corp.: Traveler.
O-320-E3D | Piper Aircraft: Cherokee (140).
| Beech Aircraft: Sport.
IO-320-B2A | Piper Aircraft: Twin Comanche (PA-30).
IO-320-B1C | Hi. Shear: Wing.
IO-320-B1D | Ted Smith Aircraft: Aerostar.
IO-320-C1A | Piper Aircraft: Twin Comanche (PA-30 Turbo).
IO-320-D1A | M.B.B.: Monsun (BO-209-C).
IO-320-D1B | M.B.B.: Monsun (BO-209-C).
IO-320-E1A | M.B.B.: Monsun (BO-209-C).
IO-320-E1B | Bellanca Aircraft.
IO-320-E2A | Champion Aircraft: Citabria.
IO-320-E2B | Bellanca Aircraft.
IO-320-F1A | CAAR Engineering: Carr Midget.
LIO-320-B1A | Piper Aircraft: Twin Comanche (PA-39).
LIO-320-C1A | Piper Aircraft: Twin Comanche (PA-39).
AIO-320-B1B | M.B.B.: Monsun (BO-209-C).
AEIO-320-D1B | Slingsby: T67M Firefly.
AEIO-320-D2B | Hundustan Aeronautics Ltd.: HT-2.
AEIO-320-E1A | Bellanca Aircraft.
| Champion Aircraft.
AEIO-320-E1B | Bellanca Aircraft.
| Champion Aircraft: Decathalon (8KCAB-CS).
AEIO-320-E2B | Bellanca Aircraft.
| Champion Aircraft: Decathalon (8KCAB).
O-320-A1A | Riley Aircraft: Riley Twin.
O-360-A1A | Beech Aircraft: Travel Air (95, B-95).
| Piper Aircraft: Comanche (PA-24).
| Intermountain Mfg. Co.: Call Air (A-6).
| Lake Aircraft: Colonial (C-2, LA-4, 4A or 4P).
| Doyn Aircraft: Doyn-Cessna (170B, 172, 172A, 172B).
| Mooney Aircraft: Mark “20B” (M-20B).
| Earl Horton: Pawnee (Piper PA-25).
| Dinfia: Ranquel (1A-51).
| Neiva: (1PD-5901).
| Regente: (N-591).
| Wassmer: Super 4 (WA-50A), Sancy (WA-40), Baladou (WA-40), Pariou (WA-40).
| Sud: Gardan (GY-180).
| Bolkow: (207).
| Partenavia: Oscar (P-66).
| Siai-Marchetti: (S-205).
| Procaer: Picchio (F-15-A).
| S.A.A.B.: Safir (91-D).
| Malmo: Vipan (MF-10B).
| Aero Boero: AB-180.
| Beagle: Airedale (A-109).
| DeHavilland: Drover (DHA-3MK3).
| Kingsford-Smith: Bushmaster (J5-6).
| Aero Engine Service Ltd.: Victa (R-2).
O-360-A1AD | S.O.C.A.T.A.: Tabago TB-10.
O-360-A1D | Piper Aircraft: Comanche (PA-24).
| Lake Aircraft: Colonial (LA-4, 4A or 4P).
| Doyn Aircraft: Doyn-Beech (Beech 95).
| Mooney Aircraft: Master “21” (M-20E), Mark “20B”, “20D”, (M20B, M20C), Mooney Statesman (M-20G).
| Dinfia: Querandi (1A-45).
| Wassmer: (WA-50).
| Malmo: Vipan (MF1-10).
| Cessna Aircraft: Skyhawk.
| Doyn Aircraft: Doyn-Piper (PA-23 “160”).
O-360-A1F6 | Cessna Aircraft: Cardinal.
O-360-A1F6D | Cessna Aircraft: Cardinal 177.
| Teal III: TSC (1A3).
O-360-A1G6 | Aero Commander.
O-360-A1G6D | Beech Aircraft: Duchess 76.
O-360-A1H6 | Piper Aircraft: Seminole (PA-44).
O-360-A1LD | Wassmer: Europa WA-52.
O-360-A1P | Aviat: Husky.
O-360-A2A | Center Est Aeronautique: Regente (DR-253).
| S.O.C.A.T.A.: Rallye Commodore (MS-893).
| Societe Aeronautique Normande: Mousquetaire (D-140).
| Bolkow: Klemm (K1-107C).
| Partenavia: Oscar (P-66).
| Beagle: Husky (D5-180) (J1-U).
O-360-A2D | Piper Aircraft: Comanche (PA-24), Cherokee “C” (PA-28 “180”).
| Mooney Aircraft: Master “21” (M-20D), Mark “21” (M-20E).
O-360-A2E | Std. Helicopter.
O-360-A2F | Aero Commander: Lark (100).
| Cessna Aircraft: Cardinal.
O-360-A2G | Beech Aircraft: Sport.
O-360-A3A | C.A.A.R.P.S.A.N.: (M-23III).
| Societe Aeronautique Normande: Jodel (D-140C).
| Robin: Regent (DR400/180), Remorqueur (DR400/180R). R-3170.
| S.O.C.A.T.A.: Rallye 180GT, Sportavia Sportsman (RS-180).
| Norman Aeroplace Co.: NAC-1 Freelance.
| Nash Aircraft Ltd.: Petrel.
O-360-A3AD | S.O.C.A.T.A.: TB-10.
| Robin: Aiglon (R-1180T).
O-360-A4A | Piper Aircraft: Cherokee “D” (PA-28 “180”).
O-360-A4D | Varga: Kachina.
O-360-A4G | Beech Aircraft: Musketeer Custom III.
O-360-A4K | Grumman American: Tiger.
| Beech Aircraft: Sundowner 180.
O-360-A4M | Piper Aircraft: Archer II (PA-28 “18”).
| Valmet: PIK-23.
O-360-A4N | Cessna Aircraft: 172 (Optional).
O-360-A4P | Penn Yan: Super Cub Conversion.
O-360-A5AD | C. Itoh and Co.: Fuji FA -200.
O-360-B2C | Seabird Aviation: SB7L.
O-360-C1A | Intermountain Mfg. Co.: Call Air (A-6).
O-360-C1E | Bellanca Aircraft: Scout (8GCBC-CS).
O-360-C1F | Maule: Star Rocket MX-7-180.
O-360-C1G | Christen: Husky (A-1).
O-360-C2B | Hughes Tool Co.: (269A).
O-360-C2D | Hughes Tool Co.: (269A).
O-360-C2E | Hughes Tool Co.: (YHO-2HU) Military.
| Bellanca Aircraft: Scout (8GCBC FP).
O-360-C4F | Maule: MX-7-180A.
O-360-C4P | Penn Yan: Super Cub Conversion.
O-360-F1A6 | Cessna Aircraft: Cutlass RG.
O-360-J2A | Robinson: R22.
IO-360-B1A | Beech Aircraft: Travel-Air (B-95A).
| Doyn Aircraft: Doyn-Piper (PA-23 “200”).
IO-360-B1B | Beech Aircraft: Travel-Air (B-95B).
| Doyn Aircraft: Doyn-Piper (PA-23 “200”).
| Fuji: (FA-200).
IO-360-B1D | United Consultants: See-Bee.
IO-360-B1E | Piper Aircraft: Arrow (PA-28 “180R”).
IO-360-B1F | Utva: 75.
IO-360-B2E | C.A.A.R.P. C.A.P. (10).
IO-360-B1F6 | Great Lakes: Trainer.
IO-360-B1G6 | American Blimp: Spector 42.
IO-360-B2F6 | Great Lakes: Trainer.
LO-360-A1G6D | Beech Aircraft: Duchess.
LO-360-A1H6 | Piper Aircraft: Seminole (PA-44).
IO-360-E1A | T.R. Smith Aircraft: Aerostar.
IO-360-L2A | Cessna Aircraft: Skyhawk C-172.
IO-360-M1A | Diamond Aircraft: DA-40.
IO-360-M1B | Vans Aircraft: RV6, RV7, RV8.
| Lancair: 360.
AEIO-360-B1F | F.F.A.: Bravo (200).
| Grob: G115/Sport-Acro.
AEIO-360-B1G6 | Great Lakes.
AEIO-360-B2F | Mundry: CAP-10.
AEIO-360-B4A | Pitts: S-1S.
AEIO-360-H1A | Bellanca Aircraft: Super Decathalon (8KCAB-180).
AEIO-360-H1B | American Champion: Super Decathalon.
VO-360-A1A | Brantly Hynes Helicopter: (B-2).
VO-360-A1B | Brantly Hynes Helicopter: (B-2, B2-A). Military (YHO-3BR).
VO-360-B1A | Brantly Hynes Helicopter: (B-2, B2-A).
IVO-360-A1A | Brantly Hynes Helicopter: (B2-B).
HO-360-B1A | Hughes Tool Co.: (269A).
HO-360-B1B | Hughes Tool Co.: (269A).
HO-360-C1A | Schweizer: (300C).
HIO-360-B1A | Hughes Tool Co.: Military (269-A-1), (TH-55A).
HIO-360-B1B | Hughes Tool Co.: (269A).
HIO-360-G1A | Schweizer: (CB).
O-540-A1A | Rhein-Flugzeugbau: (RF-1).
O-540-A1A5 | Piper Aircraft: Comanche (PA-24 “180”).
| Helio: Military (H-250).
| Yoeman Aviation: (YA-1).
O-540-A1B5 | Piper Aircraft: Aztec (PA-23 “250”), Comanche (PA-24 “250”).
O-540-A1C5 | Piper Aircraft: Comanche (PA-24 “250”).
O-540-A1D | Found Bros.:00 (FBA-2C). Dornier: (DO-28-B1).
O-540-A1D5 | Piper Aircraft: Aztec (PA-23 “250”), Comanche (PA-24 “250”), Military Aztec (U-11A).
| Dornier: (DO-28).
O-540-A2B | Aero Commander: (500).
| Mid-States Mfg. Co.: Twin Courier (H-500), (U-5).
O-540-A3D5 | Piper Aircraft: Navy Aztec (PA-23 “250”).
O-540-B1A5 | Piper Aircraft: Apache (PA-23 “235”).
O-540-B1B5 | Piper Aircraft: Comanche (PA-24 “250”).
| Doyn Aircraft: Doyn-Piper (PA-24 “250”).
O-540-B1D5 | Wassmer: (WA-421).
O-540-B2B5 | Piper Aircraft: Pawnee (PA-25 “235”), Cherokee (PA-28 “235”), Aztec (PA-23 “235”).
| Intermountain Mfg. Co.: Call Air (A-9).
| Rawdon Bros.: Rawdon (T-1).
| S.O.C.A.T.A.: Rallye 235CA.
O-540-B2C5 | Piper Aircraft: Pawnee (PA-25 “235”).
O-540-B4B5 | Piper Aircraft: Cherokee (PA-28 “235”).
| Embraer: Corioca (EMB-710).
| S.O.C.A.T.A.: Rallye 235GT, Rallye 235C.
| Maule: Star Rocket (MX-7-235), Super Rocket (M-6-235), Super Std. Rocket (M-7-235).
O-540-E4A5 | Piper Aircraft: Comanche (PA-24 “260”).
| Aviamilano: Flamingo (F-250).
| Siai-Marchetti: (SF-260), (SF-208).
O-540-E4B5 | Britten-Norman: (BN-2).
| Piper Aircraft: Cherokee Six (PA-32 “260”).
O-540-E4C5 | Pilatus Britten-Norman: Islander (BN-2A-26), Islander (BN-2A-27), Islander II (BN-2B-26), Islander (BN-2A-21), Trislander (BN-2A-Mark III-2).
O-540-F1B5 | Omega Aircraft: (BS-12D1).
| Robinson: (R-44).
O-540-G1A5 | Piper Aircraft: Pawnee (PA-25 “260”).
O-540-H1B5D | Aero Boero: 260.
O-540-H2A5 | Embraer: Impanema “AG”.
| Gippsland: GA-200.
O-540-H2B5D | Aero Boero: 260.
O-540-J1A5D | Maule: Star Rocket (MX-7-235), Super Rocket (M-6-235), Super Std. Rocket (M-7-235).
O-540-J3A5 | Robin: R-3000/235.
O-540-J3A5D | Piper Aircraft: Dakota (PA-28-236).
O-540-J3C5D | Cessna Aircraft: Skylane RG.
O-540-L3C5D | Cessna Aircraft: TR-182, Turbo Skylane RG.
IO-540-C1B5 | Piper Aircraft: Aztec B (PA-23 “250”), Comanche (PA-24 “250”).
IO-540-C1C5 | Riley Aircraft: Turbo-Rocket.
IO-540-C4B5 | Piper Aircraft: Aztec C (PA-23 “250”), Aztec F.
| Wassmer: (WA4-21).
| Avions Pierre Robin: (HR100/250).
| Bellanca Aircraft: Aries T-250.
| Aerofab: Renegade 250.
IO-540-C4D5 | S.O.C.A.T.A.: TB-20.
IO-540-C4D5D | S.O.C.A.T.A.: Trinidad TB-20.
IO-540-D4A5 | Piper Aircraft: Comanche (PA-24 “260”).
| Siai-Marchetti: (SF-260).
IO-540-D4B5 | Cerva: (CE-43 Guepard).
IO-540-J4A5 | Piper Aircraft: Aztec (PA-23 “250”).
IO-540-R1A5 | Piper Aircraft: Comanche (PA-24).
IO-540-T4A5D | General Aviation: Model 114.
IO-540-T4B5 | Commander: 114B.
IO-540-T4B5D | Rockwell: 114.
IO-540-T4C5D | Lake Aircraft: Seawolf.
IO-540-V4A5 | Maule: MT-7-260, M-7-260.
| Aircraft Manufacturing Factory.
IO-540-V4A5D | Brooklands: Scoutmaster.
IO-540-W1A5 | Maule: MX-7-235, MT-7-235, M7-235.
IO-540-W1A5D | Maule: Star Rocket (MX-7-235), Super Rocket (M-6-235), Super Std. Rocket (M-7-235).
IO-540-W3A5D | Schweizer: Power Glider.
AEIO-540-D4A5 | Christen: Pitts (S-2S), S-2B).
| Siai-Marchetti: SF-260.
| H.A.L.: HPT-32.
| Slingsby: Firefly T3A.
AEIO-540-D4B5 | Moravan: Zlin-50L.
| H.A.L.: HPT-32.
AEIO-540-D4D5 | Burkhart Grob: Grob G, 115T Aero.
TIO-540-C1A | Piper Aircraft: Turbo Aztec (PA-23-250).
TIO-540-K1AD | Piper Aircraft.
TIO-540-AA1AD | Aerofab Inc.: Turbo Renegade (270).
TIO-540-AB1AD | S.O.C.A.T.A.: Trinidad TC TB-21.
TIO-540-AB1BD | Schweizer.
TIO-540-AF1A | Mooney Aircraft: “TLS” M20M.
TIO-540-AG1A | Commander Aircraft: 114TC.
TIO-540-AK1A | Cessna Aircraft: Turbo Skylane T182T.
LTIO-540-K1AD | Piper Aircraft.

Unsafe Condition

(d) This AD results from reports of applicability errors found in AD 2005-26-10. We are issuing this AD to prevent loss of engine power due to cracks in the cylinder assemblies and possible engine failure caused by separation of a cylinder head.

Compliance

(e) You are responsible for having the actions required by this AD performed within the compliance times specified unless the actions have already been done.

Engines Not Overhauled or Repaired Since New

(f) If your engine has not been overhauled or had any major repair since new, no further action is required.

Engines Overhauled or Repaired Since New

(g) If your engine was overhauled or repaired since new, do the following:

(1) Determine if ECi cylinder assemblies, P/N AEL65102 series “Classic Cast”, having casting P/N AEL65099 and SNs 1 through 9879 are installed on your engine, as follows:

(i) Inspect the engine log books and maintenance records for reference to the subject ECi cylinder assemblies.

(ii) If the engine log books and maintenance records did not record the P/N and SN of the cylinder assemblies, visually inspect the cylinder assemblies and verify the P/N and SN of the cylinder assemblies.

(2) If the cylinder assemblies are not ECi, P/N AEL65102 series “Classic Cast”, having casting P/N AEL65099, no further action is required.

(3) If any cylinder assembly is an ECi P/N AEL65102 series “Classic Cast”, having casting P/N AEL65099 and a SN 1 through 9879, do the following:

(i) If the cylinder assembly has fewer than 800 operating hours-in-service (HIS) on the effective date of this AD, replace the cylinder assembly at no later than 800 operating HIS. No action is required until the operating HIS reaches 800 hours.

(ii) If the cylinder assembly has 800 operating HIS or more on the effective date of this AD, replace the cylinder assembly within 60 operating HIS after the effective date of this AD.

Definition of a Replacement Cylinder Assembly

(h) For the purpose of this AD, a replacement cylinder assembly is defined as follows:

(1) A serviceable cylinder assembly made by Lycoming Engines.

(2) A serviceable FAA-approved, Parts Manufacturer Approval cylinder assembly from another manufacturer.

(3) A serviceable ECi cylinder assembly, P/N AEL65102 series, “Titan”, having casting P/N AEL85099.

(4) A serviceable ECi cylinder assembly, P/N AEL65102 series, having casting P/N AEL65099, that has a SN 9880 or higher.

Prohibition of Cylinder Assemblies, P/N AEL65102 Series “Classic Cast”, Having Casting P/N AEL65099, and SNs 1 Through 9879

(i) After the effective date of this AD, do not install any ECi cylinder assembly, P/N AEL65102, having casting P/N AEL65099 that has a SN 1 through 9879, onto any engine.

Alternative Methods of Compliance

(j) The Manager, Special Certification Office, has the authority to approve alternative methods of compliance for this AD if requested using the procedures found in 14 CFR 39.19.

Related Information

(k) ECi Service Bulletin No. 05-08, Revision 1, dated December 29, 2005, pertains to the subject of this AD.

Issued in Burlington, Massachusetts, on February 15, 2006.
Ann C. Mollica,
Acting Manager, Engine and Propeller Directorate, Aircraft Certification Service.

[FR Doc. E6-2651 Filed 2-23-06; 8:45 am]

BILLING CODE 4910-13-P